DEPARTMENT OF HEALTH AND HUMAN SERVICES

National Institutes of Health

Center for Scientific Review; Amended Notice of Meeting

Notice is hereby given of a change in the meeting of the Respiratory Integrative Biology and Translational Research Study Section, February 4, 2010, 8:30 a.m. to February 5, 2010, 12 p.m., Hyatt Regency Bethesda, One Bethesda Metro Center, 7400 Wisconsin Avenue, Bethesda, MD, 20814 which was published in the Federal Register on January 8, 2010, 75 FR 1066-1067.

The meeting will be held February 3, 2010, to February 4, 2010. The meeting time and location remain the same. The meeting is closed to the public.

Dated: January 15, 2010.
Jennifer Spaeth,
Director, Office of Federal Advisory Committee Policy.

[FR Doc. 2010-1404 Filed 1-25-10; 8:45 am]

BILLING CODE 4140-01-P